DEPARTMENT OF HEALTH AND HUMAN SERVICES

National Institutes of Health

National Cancer Institute; Cancellation of Meeting

Notice is hereby given of the cancellation of the National Cancer Institute Special Emphasis Panel, SEP-11: NCI Clinical and Translational Cancer Research, March 7, 2024, 10:00 a.m. to March 7, 2024, 1:30 p.m., National Cancer Institute Shady Grove, Resources and Training Review Branch, Division of Extramural Activities, 9609 Medical Center Drive, Room 7W238, Rockville, Maryland, 20850 which was published in the Federal Register on December 20, 2023, FR Doc. 2023-27963, 88 FR 88100.

This meeting is being cancelled and will be rescheduled with a new contact person.

Dated: December 20, 2023.
Melanie J. Pantoja,
Program Analyst, Office of Federal Advisory Committee Policy.

[FR Doc. 2023-28371 Filed 12-22-23; 8:45 am]

BILLING CODE 4140-01-P